DEPARTMENT OF DEFENSE

Office of the Secretary

[Transmittal No. 22-62]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives with attached Transmittal 22-62, Policy Justification, and Sensitivity of Technology.

Dated: August 12, 2024.
Patricia L. Toppings,
OSD Federal Register Liaison Officer, Department of Defense.

BILLING CODE 6001-FR-P

BILLING CODE 6001-FR-C

Transmittal No. 22-62

Notice of Proposed Issuance of Letter of Offer Pursuant to Section 36(b)(1) of the Arms Export Control Act, as amended

(i) Prospective Purchaser: Government of Australia

(ii) Total Estimated Value:

Major Defense Equipment * | $4.76 billion
Other | $1.59 billion
TOTAL | $6.35 billion

(iii) Description and Quantity or Quantities of Articles or Services under Consideration for Purchase:

Major Defense Equipment (MDE):

Twenty-four (24) C-130J-30 Aircraft with Four (4) each Rolls Royce AE-2100D Turboprop Engines installed

Twenty-four (24) Rolls Royce AE-2100D Turboprop Engines with Quick Engine Change Assembly (QECA) and Propellers installed (spares)

Sixty (60) Embedded Global Positioning System/Inertial Navigation System (GPS/INS) (EGI) Security Devices, Airborne (48 installed, 12 spares)

Thirty-two (32) AN/ALQ-251 Radio Frequency Countermeasure (RFCM) Systems

Twenty-seven (27) Guardian Laser Transmitter Assemblies (GLTA) for Large Aircraft Infrared Countermeasures (LAIRCM) Systems (24 installed, 3 spares)

Sixteen (16) AN/AAQ-24(V)N LAIRCM System Processor Replacements (LSPR) (12 installed, 4 spares)

Twenty-four (24) Multifunctional Information Distribution System Joint Tactical Radio System (MIDS JTRS) (installed)

Non-MDE:

Also included are AN/AAQ-24(V)N LAIRCM Infrared Missile Warning Sensors (MWS), Control Interface Unit Replacements (CIRU), and classified memory card User Data Modules (UDM); KYV-5M communication security modules; AN/ARC-190 High Frequency (HF) radios; AN/ARC-210 radios; AN/ARN-153 tactical airborne navigation (TACAN) systems; AN/ARN-147 receivers; AN/ARN-149(V) automatic direction finders; AN/APX-119 Identification Friend or Foe (IFF) transponders; AN/AAR-47 missile warning systems; AN/APN-241 Low-Power Color Radars (LPCR); AN/ALE-47 Countermeasures Dispensing Systems (CMDS); AN/ALR-56 Radar Warning Receivers (RWR); AN/PYQ-10 Simple Key Loaders; MX-20HD electro-optical/infrared targeting systems; AN/KIV-77 IFF cryptographic appliques; Advanced Digital Antenna Production (ADAP) system components; integration support and test equipment; aircraft and support equipment; secure communications equipment, precision navigation, and cryptographic devices; classified software delivery and support; spare and repair parts, consumables and accessories; maintenance and maintenance support; classified manuals, publications, and technical documentation; personnel training and training equipment, and U.S. Government and contractor engineering, technical and logistics support services, studies and surveys; and other related elements of logistical and program support.

(iv) Military Department: Air Force (AT-D-SAI)

(v) Prior Related Cases, if any: None

(vi) Sales Commission, Fee, etc., Paid, Offered, or Agreed to be Paid: None known at this time.

(vii) Sensitivity of Technology Contained in the Defense Article or Defense Services Proposed to be Sold: See Attached Annex

(viii) Date Report Delivered to Congress: November 2, 2022

* As defined in Section 47(6) of the Arms Export Control Act.

POLICY JUSTIFICATION

Australia—C-130J-30 Aircraft

The Government of Australia has requested to buy twenty-four (24) C-130J-30 aircraft with four (4) each Rolls Royce AE-2100D turboprop engines installed; twenty-four (24) Rolls Royce AE-2100D turboprop engines with Quick Engine Change Assembly (QECA) and propellers installed (spares); sixty (60) Embedded Global Positioning System/Inertial Navigation System (GPS/INS) (EGI) security devices, airborne (48 installed, 12 spares); thirty-two (32) AN/ALQ-251 Radio Frequency Countermeasure (RFCM) systems; twenty-seven (27) Guardian Laser Transmitter Assemblies (GLTA) for Large Aircraft Infrared Countermeasures (LAIRCM) systems (24 installed, 3 spares); sixteen (16) AN/AAQ-24(V)N LAIRCM System Processor Replacements (LSPR) (12 installed, 4 spares); and twenty-four (24) Multifunctional Information Distribution System Joint Tactical Radio System (MIDS JTRS) (installed). Also included are AN/AAQ-24(V)N LAIRCM Infrared Missile Warning Sensors (MWS), Control Interface Unit Replacements (CIRU), and classified memory card User Data Modules (UDM); KYV-5M communication security modules; AN/ARC-190 High Frequency (HF) radios; AN/ARC-210 radios; AN/ARN-153 tactical airborne navigation (TACAN) systems; AN/ARN-147 receivers; AN/ARN-149(V) automatic direction finders; AN/APX-119 Identification Friend or Foe (IFF) transponders; AN/AAR-47 missile warning systems; AN/APN-241 Low-Power Color Radars (LPCR); AN/ALE-47 Countermeasures Dispensing Systems (CMDS); AN/ALR-56 Radar Warning Receivers (RWR); AN/PYQ-10 Simple Key Loaders; MX-20HD electro-optical/infrared targeting systems; AN/KIV-77 IFF cryptographic appliques; Advanced Digital Antenna Production (ADAP) system components; integration support and test equipment; aircraft and support equipment; secure communications equipment, precision navigation, and cryptographic devices; classified software delivery and support; spare and repair parts, consumables and accessories; maintenance and maintenance support; classified manuals, publications, and technical documentation; personnel training and training equipment, and U.S. Government and contractor engineering, technical and logistics support services, studies and surveys; and other related elements of logistical and program support. The estimated total cost is $6.35 billion.

This proposed sale will support the foreign policy and national security objectives of the United States. Australia is one of our most important allies in the Western Pacific. The strategic location of this political and economic power contributes significantly to ensuring peace and economic stability in the region. It is vital to the U.S. national interest to assist our ally in developing and maintaining a strong and ready self-defense capability.

The proposed sale will improve Australia's capability to meet current and future threats by providing the Royal Australian Air Force (RAAF) with replacements for its aging cargo fleet, guaranteeing a reliable airlift capability, and allowing the RAAF to improve its overall operational capability. Australia will have no difficulty absorbing these articles and services into its armed forces.

The proposed sale of this equipment and support will not alter the basic military balance in the region.

The principal contractor will be Lockheed Martin Corporation, Marietta, GA. There are no known offset agreements proposed in connection with this potential sale.

Implementation of this proposed sale will not require the assignment of any additional U.S. Government or contractor representatives to Australia.

There will be no adverse impact on U.S. defense readiness as a result of this proposed sale.

Transmittal No. 22-62

Notice of Proposed Issuance of Letter of Offer Pursuant to Section 36(b)(1) of the Arms Export Control Act

Annex

Item No. vii

(vii) Sensitivity of Technology:

1. The C-130J-30 Super Hercules is a military airlift aircraft that performs primarily the tactical portion of the airlift mission. The aircraft is capable of operating from rough, dirt strips and is the prime transport for air dropping troops and equipment into hostile areas. The C-130J is faster, goes further and holds more compared to legacy platforms, translating to greater power and enhanced capabilities.

a. The Rolls Royce AE 2100D3 is a 3,400 kW Turboprop Engine and the primary power plant on the C-130J Hercules military airlift aircraft. It uses dual Full Authority Digital Engine Control (FADEC) to control both engine and propeller.

b. The C-130J-30 is a stretch version of the C-130J. It adds 15 feet to the fuselage, increasing usable space in the cargo compartment to accommodate two more pallets of equipment.

2. The M-Code capable Embedded Global Positioning System/Inertial Navigation System (GPS/INS) (EGI), with an embedded GPS Precise Positioning Service (PPS) Receiver Application Module-Standard Electronic Module (GRAM-S/M), is a self-contained navigation system that provides acceleration, velocity, position, attitude, platform azimuth, magnetic and true heading, altitude, body angular rates, time tags, and coordinated universal time (UTC) synchronized time. The embedded GRAM-S/M enables access to both the encrypted P(Y) and M-Code signals, providing protection against active spoofing attacks, enhanced military exclusivity, integrity, and anti-jam.

3. The AN/ALQ-251 radio frequency countermeasure (RFCM) system provides superior situational awareness and protection against electronic warfare systems and radar-guided weapons systems in contested and congested electromagnetic spectrum environments.

4. The AN/AAQ-24(V)N LAIRCM system is a self-contained, directed-energy countermeasures system designed to protect aircraft from infrared-guided surface-to-air missiles. The LAIRCM system features digital technology micro-miniature solid-state electronics. The system operates in all conditions, detecting incoming missiles and jamming infrared-seeker equipped missiles with aimed bursts of laser energy. The LAIRCM system consists of multiple Missile Warning Sensors, the Guardian Laser Transmitter Assembly (GLTA), a System Processor Replacement (LSPR), a Control Interface Unit Replacement (CIUR), and a Classified Memory Card User Data Module (UDM).

a. The LAIRCM Missile Warning Sensors detect and declare threat missiles. The sensors are mounted on the aircraft exterior to provide omni-directional protection. The sensors detect the rocket plume of missiles and send appropriate data signals to the System Processor Replacement (LSPR) for processing.

b. The Guardian Laser Transmitter Assembly (GLTA) is a laser transmitter pointer/tracker subsystem designed to track the inbound threat missile and point the laser jam source at the missile's seeker. The GLTA automatically deploys the countermeasure.

c. The LSPR analyzes the data from each Missile Warning Sensor and automatically deploys the appropriate countermeasure via the GLTA. The LSPR contains Built-in-Test (BIT) circuitry.

d. The Control Interface Unit Replacement (CIUR) displays the incoming threat for the pilot to take appropriate action. The CIUR also provides operator interface to program the LAIRCM system to initiate built-in-test (BIT), to display system status, and to provide the crew with bearing to threat missile launch.

e. The UDM card contains the laser jam codes. It is loaded into the LSPR prior to flight; when not in use, the Classified Memory Card User Data Module is removed from the LSPR and put in secure storage.

5. The Multifunctional Information Distribution System (MIDS) with Joint Tactical Radio System (JTRS) is an advanced Link-16 command, control, communications, and intelligence (C3I) system incorporating high-capacity, jam-resistant, digital communication links for exchange of near real-time tactical information, including both data and voice, among air, ground, and sea elements.

6. The KYV-5M Communication Security Module enables secure voice for the ANDVT.

7. The AN/ARC-190 is a solid-state, high-frequency (HF) transceiver that provides beyond-line-of-sight communications capability for various military airborne applications.

8. The AN/ARC-210 is a voice communications radio system equipped with HAVE QUICK II, which employs cryptographic technology. Other waveforms may be included as needed.

9. The AN/ARN-153 is an airborne receiver-transmitter component of the Tactical Airborne Navigation (TACAN) avionics system.

10. AN/ARN-147 receivers combine all VHF Omni Ranging/Instrument Landing System (VOR/ILS) functions into one compact, lightweight set.

11. The AN/ARN-149(V) low-frequency, automatic direction-finding system provides automatic pointing to low-frequency and medium-frequency non-directional beacons (NDB), standard broadcast stations, and emergency stations on frequencies of 500 and 2182 kHz. An aural output provides station identification, weather reporting, and AM broadcast audio.

12. The AN/APX-119 is an Identification Friend or Foe (IFF) transponder that provides military aircraft with a secure combat identification capability to help reduce fratricide and enhance battlespace awareness, while providing safe access to civilian airspace.

13. The AN/AAR-47A(V)2 Missile Warning System is a small, lightweight, passive, electro-optic, threat warning device used to detect surface-to-air missiles fired at helicopters and low-flying, fixed-wing aircraft and automatically provide countermeasures, as well as audio and visual-sector warning messages to the aircrew.

14. The AN/APN-241 is a Low-Power Color Radar (LPCR) are radars in the transport class with a high-resolution SAR mapping mode. In addition to meeting needs for precision navigation, this radar enables operators to execute landing missions on unimproved runways without aid from ground-based landing systems.

15. The AN/ALE-47 countermeasures dispensing system (CMDS) is an integrated, threat-adaptive, software programmable dispensing system capable of dispending chaff, flares, and active radio frequency expendables. The AN/ALE-47 uses data received over the aircraft interfaces to assess the threat situation and to determine a response.

16. The AN/ALR-56 is a computer-controlled, advanced radar warning receiver (RWR) designed to provide improved aircrew situational awareness of the radar guided threat environment through improved performance in a dense signal environment and improved detection of modern threats signals.

17. The AN/PYQ-10 Simple Key Loader is a handheld device used for securely receiving, storing, and transferring data between compatible cryptographic and communications equipment.

18. The MX-20HD is a gyro-stabilized, multi-spectral, multi-field-of-view (FOV) Electro-Optical/Infrared (E.O./IR) targeting system. The system provides surveillance laser illumination and laser designation through use of an externally mounted turret sensor unit and internally mounted master control. Sensor video imagery is displayed in the aircraft real time and may be recorded for subsequent ground analysis.

19. The KIV-77 is a cryptographic applique for IFF. It can be loaded with Mode 5 classified elements.

20. The highest level of classification of defense articles, components, and services included in this potential sale is SECRET.

21. If a technologically advanced adversary were to obtain knowledge of the specific hardware and software elements, the information could be used to develop countermeasures that might reduce weapon system effectiveness or be used in the development of a system with similar or advanced capabilities.

22. A determination has been made that Australia can provide substantially the same degree of protection for the sensitive technology being released as the U.S. Government. This sale is necessary in furtherance of the U.S. foreign policy and national security objectives outlined in the Policy Justification.

23. All defense articles and services listed in this transmittal have been authorized for release and export to Australia.

[FR Doc. 2024-18293 Filed 8-14-24; 8:45 am]

BILLING CODE 6001-FR-P